ENVIRONMENTAL PROTECTION AGENCY

[FRL-9996-33-OMS]

Privacy Act of 1974; System of Records

AGENCY: Office of Mission Support, Environmental Protection Agency (EPA).

ACTION: Notice of a modified system of records.

SUMMARY: Pursuant to the provisions of the Privacy Act of 1974 (5 U.S.C. 552a), the Office of Inspector General (OIG) is giving notice that it proposes to modify an existing system of records, Inspector General Enterprise Management System (IGEMS) Investigative module. The Inspector General Enterprise Management System (IGEMS) Investigative Module is modifying its point of contact, retention and disposal, and notification procedures.

DATES: Persons wishing to comment on this system of records notice must do so by August 28, 2019. If no comments are received by the end of the comment period, this system of record will become effective on August 28, 2019.

ADDRESSES: Submit your comments, identified by Docket ID No. EPA-HQ-2011-0366, by one of the following methods:

Regulations.gov: www.regulations.gov. Follow the online instructions for submitting comments.

Email: oei.docket@epa.gov.

Fax: 202-566-1752.

Mail: OEI Docket, Environmental Protection Agency, Mailcode: 2822T, 1200 Pennsylvania Ave. NW, Washington, DC 20460.

Hand Delivery: OEI Docket, EPA/DC, WJC West Building, Room 3334, 1301 Constitution Ave. NW, Washington, DC. Such deliveries are only accepted during the Docket's normal hours of operation, and special arrangements should be made for deliveries of boxed information.

Instructions: Direct your comments to Docket ID No. EPA-HQ-2011-0366. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OEI Docket, EPA/DC, WJC West Building, Room 3334, 1301 Constitution Ave. NW, Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Maria Martir, 202-566-2692, martir.maria@epa.gov.

SUPPLEMENTARY INFORMATION:

I. General Information

The EPA OIG is giving notice that it intends to modify an existing system of records. The Inspector General Enterprise Management System (IGEMS) Investigative Module is modifying its point of contact, retention and disposal, and notification procedures. This system serves as the repository of information collected in the course of conducting investigations relating to programs and operations of the EPA. The privacy of individuals is protected through user authentication and system roles, permissions and privileges. The system is operated and maintained by the Office of Inspector General, Office of Management, Information Technology Directorate (OM-ITD).

SYSTEM NAME AND NUMBER:

Inspector General Enterprise Management System (IGEMS) Investigative Module. EPA-40.

SECURITY CLASSIFICATION:

Unclassified.

SYSTEM LOCATION:

Office of Inspector General, Environmental Protection Agency, 1200 Pennsylvania Avenue NW, Washington, DC 20460.

SYSTEM MANAGER(S):

James Nussbaumer, Nussbaumer.James@epa.gov, 202-566-2583, Assistant Inspector General for Management, Office of Inspector General, Environmental Protection Agency, 1200 Pennsylvania Avenue NW, Washington, DC 20460.

AUTHORITY FOR MAINTENANCE OF THE SYSTEM:

Inspector General Act of 1978, 5 U.S.C. app. 3.

PURPOSE(S) OF THE SYSTEM:

To serve as the repository of information collected in the course of conducting investigations relating to programs and operations of the EPA.

CATEGORIES OF INDIVIDUALS COVERED BY THE SYSTEM:

Subjects, complainants, and witnesses in OIG investigations; OIG employees who perform investigations; and individuals who receive the results of investigations.

CATEGORIES OF RECORDS IN THE SYSTEM:

Personally Identifiable Information (PII) records to include name, address, telephone number, employee ID, personal cell phone number, date of birth, employment information; Sensitive PII in the form of a social security number (SSN); Health insurance Portability and Accountability Act (HIPAA) records; and financial records. Records include investigative files and materials collected during the investigative process, names of subjects of OIG investigations; address of subjects; names of complainants and witnesses interviewed during the investigations; documents and other records collected from public, business, government and other sources; forensic and other analyses; memoranda of investigative activities and contacts; electronic data; electronic images; and investigative tools.

RECORD SOURCE CATEGORIES:

Subjects of an investigation; present and former associations of the subjects (e.g., colleagues, business associates, acquaintances, or relatives); federal, state, local, international, and foreign investigative or law enforcement agencies; other government agencies; confidential sources; complainants; witnesses; concerned citizens; and public source materials.

ROUTINE USES OF RECORDS MAINTAINED IN THE SYSTEM, INCLUDING CATEGORIES OF USERS AND PURPOSES OF SUCH USES:

The following new routine uses apply to this system because the use of the record is necessary for the efficient conduct of government operations. The routine uses are related to and compatible with the original purpose for which the information was collected.

General routine uses A, B, C, D, E, F, G, H, I, J, and K apply to this system (73 FR 2245). Records may also be disclosed:

1. To any source, private or public, to the extent necessary to secure from such source information relevant to a legitimate EPA investigation, audit, decision, or other inquiry.

2. To a Federal agency responsible for considering suspension or debarment action where such record would be relevant to such action.

3. To the Department of Justice to obtain its advice on Freedom of Information Act matters.

4. In response to a lawful subpoena issued by a Federal agency.

5. To the Department of the Treasury and the Department of Justice when EPA is seeking an ex parte court order to obtain taxpayer information from the Internal Revenue Service.

6. To a Federal, State, local, foreign, or international agency, or other public authority, for use in a computer matching program, as that term is defined in 5 U.S.C. 552a(a)(8).

7. To a public or professional licensing organization if the record indicates, either by itself or in combination with other information, a violation or potential violation of professional standards, or reflects on the moral, educational, or professional qualifications of an individual who is licensed or who is seeking to become licensed.

8. To any person when disclosure of the record is needed to enable the recipient of the record to take action to recover money or property of the EPA, when such recovery will accrue to the benefit of the United States, or when disclosure of the record is needed to enable the recipient of the record to take appropriate disciplinary action to maintain the integrity of EPA programs or operations.

9. To officers and employees of other Federal agencies for the purpose of conducting quality assessments of the OIG.

10. To the news media and public when a public interest justifies the disclosure of information on public events such as indictments or similar activities.

11. To Members of Congress and the public in the OIG's Semiannual Report to Congress when the Inspector General determines that the matter reported is significant.

12. To the public when the matter under audit or investigation has become public knowledge, or when the Inspector General determines that such disclosure is necessary to preserve confidence in the integrity of the OIG audit or investigative process or is necessary to demonstrate the accountability of EPA officers, employees, or individuals covered by this system, unless it is determined that disclosure of the specific information in the context of a particular case could reasonably be expected to constitute an unwarranted invasion of personal privacy.

13. To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

14. To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

15. To the Office of Government Ethics to comply with agency reporting requirements in 5 CFR 2638.206.

POLICIES AND PRACTICES FOR STORAGE OF RECORDS:

In accordance with OIG Records Management Policy, computer records are maintained in a secure, password protected computer system. Paper records are maintained in lockable file cabinets. All records are maintained in secure, access-controlled areas or buildings.

POLICIES AND PRACTICES FOR RETRIEVAL OF RECORDS:

By names and other identifiers of subjects, complainants and witnesses interviewed during investigations; others involved in the investigative process; and investigative case file numbers.

POLICIES AND PRACTICES FOR RETENTION AND DISPOSAL OF RECORDS:

Records stored in this system are subject to EPA Records Schedule 1016, which covers records related to operations and programs of the EPA and its external business partners that ensure compliance with applicable laws and regulations and prevent waste, fraud, and abuse.

ADMINISTRATIVE, TECHNICAL, AND PHYSICAL SAFEGUARDS:

Computer records are maintained in a secure, password protected computer system. Paper records are maintained in lockable file cabinets. All records are maintained in secure, access-controlled areas or buildings. The IGEMS Investigations module (I2M) is restricted to the I2M Administrator and the staff of EPA OIG Office of Investigations, Office of Counsel, the Inspector General and Deputy Inspector General. It is one of the modules found in IGEMS. IGEMS is accessible to EPA OIG employees only. It is an internal database accessible by multi-factor authentication. Use of strong passwords, which are renewed on a regular basis, and screen locks are enforced.

RECORD ACCESS PROCEDURES:

To the extent permitted under the Privacy Act of 1974, 5 U.S.C. 552a(j), (k)(2) & (k)(5), this system has been exempted from the provisions of the Privacy Act of 1974 that permit access and correction. However, EPA may in its discretion, fully grant individual requests for access and correction if it determines that the exercise of these rights will not interfere with an interest that the exemption is intended to protect. The exemption from access is limited in some instances by law to information that would reveal the identity of a confidential source. Requesters will be required to provide adequate identification, such as a driver's license, employee identification card or other identifying document. Additional identification procedures may be required in some instances.

CONTESTING RECORD PROCEDURES:

Requests for correction or amendment must identify the record to be changed and the corrective action sought. EPA's Privacy Act regulations are set out in 40 CFR part 16.

NOTIFICATION PROCEDURE:

Requests to determine whether this system of records contains a record pertaining to you must be sent to the Agency's Privacy Officer at: U.S. Environmental Protection Agency, 1200 Pennsylvania Avenue NW (2831T), Washington, DC 20460; (202) 566-1668; Email: (privacy@epa.gov); Attn: Privacy Officer.

EXEMPTIONS PROMULGATED FOR THE SYSTEM:

Under 5 U.S.C. 552a(j)(2), this system is exempt from the following provisions of the Privacy Act of 1974, as amended: 5 U.S.C. 552a(c)(3) and (4); (d); (e)(1), (e)(2), (e)(3), (e)(4)(G), (e)(4)(H), (e)(5), and (e)(8); (f); and (g).

Under 5 U.S.C. 552a(k)(2) and (k)(5), this system is exempt from the following provisions of the Privacy Act of 1974 as amended, subject to the limitations set forth in this subsection; 5 U.S.C. 552a(c)(3); (d); (e)(1), (e)(4)(G), (e)(4)(H), and (f)(2) through (5).

HISTORY:

66 FR 49947—The establishment of the IGOR system in the Office of Inspector General resulted in a restructuring of the OIG systems of records. Two existing systems (for investigative files and personnel security files) migrated to the IGOR structure. One new OIG system for audit, assignment, and time sheet files has been created.

76 FR 71019—proposes to amend an existing system of records by changing the name of the system from the Inspector General's Operation and Reporting (IGOR) System Investigative Files (EPA-40) to the Inspector General Enterprise Management System (IGEMS) Investigative Module.

Dated: May 3, 2019.
Vaughn Noga,
Senior Agency Official for Privacy.

[FR Doc. 2019-16075 Filed 7-26-19; 8:45 am]

BILLING CODE 6560-50-P